DEPARTMENT OF THE INTERIOR

National Park Service

[NPS-WASO-NAGPRA-15412; PPWOCRADN0-PCU00RP14.R50000]

Notice of Inventory Completion: University of Wisconsin-Madison, Department of Anthropology, Madison, WI

AGENCY: National Park Service, Interior.

ACTION: Notice.

SUMMARY: The University of Wisconsin-Madison Department of Anthropology has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the University of Wisconsin-Madison Department of Anthropology. If no additional requestors come forward, transfer of control of the human remains to the Indian tribes or Native Hawaiian organizations stated in this notice may proceed.

DATES: Representatives of any Indian tribe or Native Hawaiian organization not identified in this notice that wish to request transfer of control of these human remains should submit a written request with information in support of the request to the University of Wisconsin-Madison Department of Anthropology at the address in this notice by June 16, 2014.

ADDRESSES: Sissel Schroeder, University of Wisconsin-Madison, Department of Anthropology, 1180 Observatory Drive, 5240 Social Sciences Building, Madison, WI 53706, telephone (608) 262-0317, email sschroeder2@wisc.edu.

SUPPLEMENTARY INFORMATION: Notice is here given in accordance with the Native American Graves Protection and Repatriation Act (NAGPRA), 25 U.S.C. 3003, of the completion of an inventory of human remains under the control of the University of Wisconsin-Madison Department of Anthropology, Madison, WI. The human remains were removed from Dodge County and Jefferson County, WI.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the University of Wisconsin-Madison Department of Anthropology professional staff in consultation with representatives of the Forest County Potawatomi Community, Wisconsin; Ho-Chunk Nation of Wisconsin; Lac Courte Oreilles Band of Lake Superior Chippewa Indians of Wisconsin; Lac du Flambeau Band of Lake Superior Chippewa Indians of the Lac du Flambeau Reservation of Wisconsin; Menominee Indian Tribe of Wisconsin; Sokaogon Chippewa Community, Wisconsin; and the Stockbridge Munsee Community, Wisconsin. The following tribes were invited to consult but did not participate: the Citizen Potawatomi Nation, Oklahoma; Hannahville Indian Community, Michigan; Prairie Band Potawatomi Nation (previously listed as the Prairie Band of Potawatomi Nation, Kansas); and the Winnebago Tribe of Nebraska.

History and Description of the Remains

Between 1951 and 1953, human remains representing, at minimum, seven individuals were removed from the Hahn site, in Dodge County, WI, by Richard Keslin, a graduate student at the University of Wisconsin-Madison (UW-Madison). The private landowner was bulldozing for gravel operations and exposed burials on a knoll near the Horicon Marsh. Keslin excavated the burials as part of his master's thesis research. The human remains were from three burials. Burial 1 contained the human remains of a perinate; an infant; a mid-age adult, probably male; and a mid-age adult male. Burial 2 contained the human remains of an infant and a child. Burial 4 contained the human remains of an adult male. No known individuals were identified. No associated funerary objects are present. The Hahn site dates from the Early to Late Woodland Period (ca. 500 B.C.-A.D. 1050), based on diagnostic artifacts recovered from the site.

Between 1959 and 1961, human remains representing, at minimum, three individuals were removed from the Highsmith site, in Jefferson County, WI, by Robert Salzer of UW-Madison during master's thesis research. Burial 1 contained human remains of a young adult male; Burial 2 contained human remains of a young adult female; and Burial 3 contained human remains of a child of indeterminate sex. No known individuals were identified. No associated funerary objects are present. The site consists of a multi-component habitation site that dates from the Paleo-Indian Period (ca. 10,000 B.C.) and a mound group that dates to the Late Woodland Period (ca. A.D. 750-1050). The human remains are believed to be associated with the Late Woodland period (ca. A.D. 750-1050), because of the diagnostic artifacts found in the area of the burials.

Determinations Made by the University of Wisconsin-Madison Department of Anthropology

Officials of the University of Wisconsin-Madison Department of Anthropology have determined that:

• Pursuant to 25 U.S.C. 3001(9), the human remains described in this notice are Native American based on their examination by a physical anthropologist, their recovery from a known archeological site, their well-documented provenience in the field records, and associated radiocarbon dates for some of the remains.

• Pursuant to 25 U.S.C. 3001(9), the human remains described in this notice represent the physical remains of 10 individuals of Native American ancestry.

• Pursuant to 25 U.S.C. 3001(2), a relationship of shared group identity cannot be reasonably traced between the Native American human remains and any present-day Indian tribe.

• Treaties, Acts of Congress, or Executive Orders, indicate that the land from which the Native American human remains were removed is the aboriginal land of the Bad River Band of the Lake Superior Tribe of Chippewa Indians of the Bad River Reservation, Wisconsin; Bay Mills Indian Community, Michigan; Bois Forte Band (Nett Lake) of the Minnesota Chippewa Tribe, Minnesota; Chippewa-Cree Indians of the Rocky Boy's Reservation, Montana; Citizen Potawatomi Nation, Oklahoma; Fond du Lac Band of the Minnesota Chippewa Tribe, Minnesota; Forest County Potawatomi Community, Wisconsin; Grand Portage Band of the Minnesota Chippewa Tribe, Minnesota; Grand Traverse Band of Ottawa and Chippewa Indians, Michigan; Hannahville Indian Community, Michigan; Ho-Chunk Nation of Wisconsin; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Leech Lake Band of the Minnesota Chippewa Tribe, Minnesota; Match-e-be-nash-she-wish Band of Pottawatomi Indians of Michigan; Mille Lacs Band of the Minnesota Chippewa Tribe, Minnesota; Minnesota Chippewa Tribe, Minnesota; Nottawaseppi Huron Band of the Potawatomi, Michigan (previously listed as the Huron Potawatomi, Inc.); Ottawa Tribe of Oklahoma; Pokagon Band of Potawatomi Indians, Michigan and Indiana; Prairie Band Potawatomi Nation (previously listed as the Prairie Band of Potawatomi Nation, Kansas); Quechan Tribe of the Fort Yuma Indian Reservation, California & Arizona; Red Cliff Band of Lake Superior Chippewa Indians of Wisconsin; Red Lake Band of Chippewa Indians, Minnesota; Saginaw Chippewa Indian Tribe of Michigan; Sault Ste. Marie Tribe of Chippewa Indians, Michigan; Sokaogon Chippewa Community, Wisconsin; St. Croix Chippewa Indians of Wisconsin; Turtle Mountain Band of Chippewa Indians of North Dakota; White Earth Band of Minnesota Chippewa Tribe, Minnesota; and the Winnebago Tribe of Nebraska (hereafter referred to as “The Tribes”).

• Pursuant to 43 CFR 10.11(c)(1), the disposition of the human remains may be to The Tribes.

Additional Requestors and Disposition

Representatives of any Indian tribe or Native Hawaiian organization not identified in this notice that wish to request transfer of control of these human remains should submit a written request with information in support of the request to Sissel Schroeder, University of Wisconsin-Madison, Department of Anthropology, 1180 Observatory Drive, 5240 Social Sciences Building, Madison, WI 53706, telephone (608) 262-0317, email sschroeder2@wisc.edu, by June 16, 2014. After that date, if no additional requestors have come forward, transfer of control of the human remains to The Tribes may proceed.

The University of Wisconsin-Madison Department of Anthropology is responsible for notifying The Tribes that this notice has been published.

Dated: March 31, 2014.
Sherry Hutt,
Manager, National NAGPRA Program.

[FR Doc. 2014-11267 Filed 5-14-14; 8:45 am]

BILLING CODE 4312-50-P